DEPARTMENT OF ENERGY

Federal Energy Regulatory Commission

[ER99-2948-005; ER00-2918-004; ER00-2917-004; ER97-2261-001; ER01-556-003; ER01-557-003; ER01-558-003; ER01-559-003; ER01-560-003; ER01-1654-006; ER01-2641-004; ER00-3240-004; ER02-2567-004; ER02-699-001; ER01-1949-004; ER04-485-001]

Baltimore Gas and Electric Company; Constellation Power Source Generation, Inc.; Calvert Cliffs Nuclear Power Plant, Inc.; Constellation Energy Commodities Group, Inc. (f/k/a Constellation Power Source, Inc.); Handsome Lake Energy, LLC; University Park Energy, LLC; Holland Energy, LLC; Wolf Hills Energy, LLC; Big Sandy Peaker Plant, LLC; Nine Mile Point Nuclear Station, LLC; High Desert Power Project, LLC; Oleander Power Project, Limited Partnership; Constellation NewEnergy, Inc.; Constellation Energy Commodities Group Maine, LLC; (f/k/a Constellation Power Source Maine, LLC); Power Provider LLC; R.E. Ginna Nuclear Power Plant, LLC; Notice of Filing

May 26, 2005.

Take notice that on May 23, 2005, Constellation Energy Group, Inc., (Constellation) submitted for filing a supplement to its May 2, 2005, Notice of Change in Status filing. Constellation states that the purpose of this filing is to supplement the May 2, 2005, filing with the addition of the revised tariff sheets of Baltimore Gas and Electric Company to comply with the Commission's Order No. 652 (Reporting Requirement for Change in Status for Public Utilities with Market-Based Rate Authority, Order No. 652, 70 FR 8253, FERC Stats & Regs ¶ 31,175 (Feb. 18, 2005). In addition, Constellation states that it is adding Oleander Power Project, Limited Partnership to the case caption that was omitted from the May 2, 2005, filing.

Constellation states that copies of this notification were served upon all persons on the service lists in the above-captioned dockets.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: 5 p.m. on June 13, 2005.

Linda Mitry,
Deputy Secretary.

[FR Doc. E5-3391 Filed 6-28-05; 8:45 am]

BILLING CODE 6717-01-P